FEDERAL MARITIME COMMISSION

Notice of Agreements Filed

The Commission hereby gives notice of filing of the following agreement under the Shipping Act of 1984. Interested parties may submit comments, relevant information, or documents regarding the agreement to the Secretary by email at Secretary@fmc.gov, or by mail, Federal Maritime Commission, 800 North Capitol Street, Washington, DC 20573. Comments will be most helpful to the Commission if received within 12 days of the date this notice appears in the Federal Register, and the Commission requests that comments be submitted within 7 days on agreements that request expedited review. Copies of agreement are available through the Commission's website (www.fmc.gov) or by contacting the Office of Agreements at (202)-523-5793 or tradeanalysis@fmc.gov.

Agreement No.: 201438.

Agreement Name: Maesk/HL Mediterranean Vessel Sharing Agreement.

Parties: Maersk A/S; Hapag-Lloyd AG.

Filing Party: Wayne Rohde, Cozen O'Connor.

Synopsis: The Agreement authorizes the Parties to share vessels in the trades between the U.S. East Coast on the one hand and ports in Turkey, Italy, and Morocco on the other hand.

Proposed Effective Date: 1/27/2025.

Location: https://www2.fmc.gov/FMC.Agreements.Web/Public/AgreementHistory/87583.

Agreement No.: 201439.

Agreement Name: Hapag-Lloyd/ZIM Med-North America/Jamaica Slot Exchange and Slot Charter Agreement.

Parties: Hapag Lloyd AG; ZIM Integrated Shipping Services Ltd.

Filing Party: Wayne Rohde, Cozen O'Connor.

Synopsis: The Agreement authorizes the parties to exchange slots and charter space on their respective services in the trades between the U.S. East Coast on the one hand and ports in Greece, Israel, Italy, Jamaica, Morocco, Spain, and Turkey on the other hand.

Proposed Effective Date: 01/27/2025.

Location: https://www2.fmc.gov/FMC.Agreements.Web/Public/AgreementHistory/87584.

Agreement No.: 201429-001.

Agreement Name: Gemini Cooperation Agreement.

Parties: Hapag Lloyd AG; Hapag-Lloyd USA, LLC; Maersk A/S.

Filing Party: Wayne Rohde, Cozen O'Connor.

Synopsis: The amendment revises Articles 5.A.2(f) and 12.2(d) to clarify the use of space to transport preference cargoes.

Proposed Effective Date: 1/27/2025.

Location: https://www2.fmc.gov/FMC.Agreements.Web/Public/AgreementHistory/86566.

Agreement No.: 201440.

Agreement Name: North Europe-USEC Vessel Sharing Agreement.

Parties: CMA CGM S.A.; COSCO SHIPPING Lines Co., Ltd.; Evergreen Marine (U.K.) Limited; Ocean Network Express Pte. Ltd.; Orient Overseas Container Line Limited; OOCL (Europe) Limited.

Filing Party: Joshua Stein, Cozen O'Connor.

Synopsis: The purpose of this Agreement is to authorize the Parties to charter and exchange space on one another's vessels and to coordinate and cooperate with respect to the Parties' transportation services and operations in the trades between, on the one hand, ports in North Europe (including Belgium, France, Germany, United Kingdom, and Netherlands), and on the other hand, Mexico and U.S. ports in the Atlantic coast range.

Proposed Effective Date: 01/30/2025.

Location: https://www2.fmc.gov/FMC.Agreements.Web/Public/AgreementHistory/87586.

Agreement No.: 201441.

Agreement Name: ONE/CMA CGM AL5-California Bridge Vessel Sharing Agreement.

Parties: CMA CGM S.A.; Ocean Network Express Pte. Ltd.

Filing Party: Joshua Stein, Cozen O'Connor.

Synopsis: The Agreement authorizes the parties to share vessels in the trade between ports on the U.S. East Coast/Gulf and the U.S. West Coast on the one hand and ports in the United Kingdom, Germany, France, the Netherlands, Belgium, Colombia, Panama, and Dominican Republic on the other.

Proposed Effective Date: 02/01/2025.

Location: https://www2.fmc.gov/FMC.Agreements.Web/Public/AgreementHistory/87587.

Agreement No.: 201442.

Agreement Name: ONE to YML AP1 Slot Charter Agreement.

Parties: Ocean Network Express Pte. Ltd.; Yang Ming Marine Transport Corporation & Yangming (UK) Ltd.

Filing Party: Joshua Stein, Cozen O'Connor.

Synopsis: The Agreement authorizes ONE to charter space to YML in the orts in China, Taiwan and Vietnam on the one hand and ports on the U.S. West Coast on the other hand.

Proposed Effective Date: 02/02/2025.

Location: https://www2.fmc.gov/FMC.Agreements.Web/Public/AgreementHistory/87588.

Dated: December 20, 2024.
Jennifer Everling,
Assistant Secretary.

[FR Doc. 2024-31056 Filed 12-27-24; 8:45 am]

BILLING CODE 6730-02-P